DEPARTMENT OF TRANSPORTATION

Federal Aviation Administration

Electric Vertical Takeoff and Landing and Advanced Air Mobility Integration Pilot Program—Announcement of Establishment of Program and Request for Proposals

AGENCY: Department of Transportation, Federal Aviation Administration (FAA).

ACTION: Notice of the establishment of the Electric Vertical Takeoff and Landing (eVTOL) and Advanced Air Mobility (AAM) Integration Pilot Program (eIPP) extension to submit proposals.

SUMMARY: This action extends the Electric Vertical Takeoff and Landing and Advanced Air Mobility Integration Pilot Program—Announcement of Establishment of Program and Request for Proposals which initially published on September 16, 2025.

DATES: The initial date for interested SLTT governments to submit a proposal to participate in the eIPP in accordance with the SIR posted to sam.gov was to be no later than 3 p.m. ET on December 11, 2025, the FAA proposes to change the date to no later than 3 p.m. ET on December 19, 2025.

FOR FURTHER INFORMATION CONTACT: For general Program questions, Mr. Wade Terrell, Acting Director, Advanced Air Mobility Operations Division, 490 L'Enfant Plaza SW (Suite 500), Washington, DC 20024; telephone (405) 423-7936; email 9-AWA-eIPP@faa.gov; or, for solicitation questions, Mrs. Kristin Frantz, Contracting Officer, AAQ-590, UAS and Emerging Technologies Branch, Federal Aviation Administration, 1701 Columbia Avenue, College Park, GA 30337; telephone (404) 305-5779; email: Kristin.T.Frantz@faa.gov.

Issued in Washington, DC, on December 11, 2025.

Authority: Issued under authority provided by 49 U.S.C. 106(f), 44701(a), and 4470.

Wendy L. O'Connor,
Executive Director, Advanced Air Mobility Integration.

[FR Doc. 2025-22836 Filed 12-15-25; 8:45 am]

BILLING CODE 4910-13-P